COMMISSION ON CIVIL RIGHTS

Agenda and Notice of Public Meeting of the South Dakota Advisory Committee

AGENCY: U.S. Commission on Civil Rights.

ACTION: Announcement of public web briefing and meetings.

SUMMARY: Notice is hereby given, pursuant to the provisions of the rules and regulations of the U.S. Commission on Civil Rights (Commission), and the Federal Advisory Committee Act (FACA), that the South Dakota State Advisory Committee to the Commission will convene a briefing on Monday, November 14, 2022, from 3:00 p.m.-5:00 p.m. (CT). The purpose of the briefing is to hear from impacted individuals on the topic of voting rights and voter access in South Dakota. The South Dakota Advisory Committee will also convene regular business meetings on the following Mondays from 3:30 p.m.-4:30 p.m. (CT): December 12, 2022, January 9, 2023, and February 13, 2023. The purpose of the business meetings is to discuss testimony heard related to the Committee's topic on voting rights and voter access.

Briefing Date: Monday, November 14, 2022, at 3:00 p.m. (CT).

Briefing Zoom Link (video and audio): https://tinyurl.com/3hwph42r; password, if needed: USCCR-SD.

If Joining Briefing by Phone Only, Dial: 1-551-285-1373; Meeting ID: 161 095 5742#.

Business Meeting Dates: December 12, 2022; January 9, 2023; and February 13, 2023; Mondays at 3:30 p.m. (CT).

Business Meetings Zoom Link: https://tinyurl.com/j9s362sb.

If Joining Business Meetings by Phone Only, Dial: 1-551-285-1373; Meeting ID: 161 950 2444#.

FOR FURTHER INFORMATION CONTACT: Kayla Fajota at kfajota@usccr.gov.

SUPPLEMENTARY INFORMATION: The meetings are available to the public through the web links above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email kfajota@usccr.gov at least 10 business days prior to the meeting for which accommodations are requested.

Members of the public are entitled to make comments during the open period at the end of each meeting. Members of the public may also submit written comments; the comments must be received in the Regional Programs Unit within 30 days following each meeting. Written comments may be emailed to Kayla Fajota at kfajota@usccr.gov. Persons who desire additional information may contact the Regional Programs Unit at (202) 809-9618. Records and documents discussed during meetings will be available for public viewing as they become available at www.facadatabase.gov. Persons interested in the work of this advisory committee are advised to go to the Commission's website, www.usccr.gov, or to contact the Regional Programs Unit at the above phone number or email address.

Briefing Agenda: Monday, November 14, 2022; 3:00 p.m. (CT)

I. Welcome Remarks & Roll Call

II. Forum: Impacted Individuals—Voting Rights and Voter Access

III. Closing Remarks

IV. Other Business

V. Adjournment

Business Meeting Agenda: Mondays at 3:30 p.m. (CT)—12/12/22, 1/9/23, and 2/13/23

I. Welcome & Roll Call

II. Announcements and Updates

III. Approval of Minutes from the Last Meeting

IV. Debrief: Panel Briefings and Transcripts

V. Next Steps

VI. Public Comment

VII. Adjournment

Dated: October 27, 2022
David Mussatt,
Supervisory Chief, Regional Programs Unit.

[FR Doc. 2022-23714 Filed 10-31-22; 8:45 am]

BILLING CODE P